ENVIRONMENTAL PROTECTION AGENCY

[ER-FRL-8597-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in the Federal Register dated July 17, 2009 (74 FR 34754).

Draft EISs

EIS No. 20090229, ERP No. D-NPS-E65084-FL, Big Cypress National Preserve Addition, General Management Plan/Wilderness Study/Off-Road Vehicle Management Plan, Implementation, Collier County, FL.

Summary: EPA expressed environmental concerns about surface water and wetland impacts, and recommended that the final EIS include a cumulative impact analysis for the entire Big Cypress National Preserve. Rating EC2.

EIS No. 20090246, ERP No. D-AFS-K65376-CA, Eddy Gulch Late-Successional Reserve Fuels/Habitat Protection Project, To Protect Late-Successional Habitat used by the Northern Spotted Owl and Other Late-Successional-Dependent Species, Salmon River and Scott River Ranger District, Klamath National Forest, Siskiyou County, CA.

Summary: EPA requested additional information regarding a smoke management plan, worker exposure to naturally occurring asbestos, the Wildland-Urban Interface (WUI), and noxious weeds. Rating EC2.

Final EISs

EIS No. 20090284, ERP No. F-ARD-L65578-WA, Adoption—White Pass Expansion Master Development Plan, Implementation, Naches Ranger District, Okanogan-Wenatchee National Forests and Cowlitz Valley Ranger District, Gifford Pinchot National Forest, Yakima and Lewis Counties, WA.

Summary: No formal comment letter was sent to the preparing agency.

Dated: September 15, 2009.
Robert W. Hargrove,
Director, NEPA Compliance Division, Office of Federal Activities.

[FR Doc. E9-22529 Filed 9-17-09; 8:45 am]

BILLING CODE 6560-50-P